DEPARTMENT OF HEALTH AND HUMAN SERVICES

Administration for Children and Families

Office of Planning, Research and Evaluation; Grant to the University of Colorado Health Sciences Center

AGENCY: Office of Planning, Research and Evaluation, ACF, DHHS.

ACTION: Award announcement.

SUMMARY: Notice is hereby given that a noncompetitive grant award is being made to the University of Colorado Health Sciences Center. Under the title of “Economic Analysis of the Prenatal and Early Childhood Nurse Home Visitation Program,” the project proposes to carry out the second phase of a net-cost analysis of a program of prenatal and infancy home visiting.

This project is being funded noncompetitively, because of its uniqueness in examining cost savings to government resulting from an investment in a program of prenatal and early childhood home visitation. The duration of this project is two years, beginning April 1, 2000, for a total cost of $312,766.

FOR FURTHER INFORMATION CONTACT: K.A. Jagannathan, Administration for Children and Families, Office of Planning, Research and Evaluation, 370 L'Enfant Promenade, SW, Washington, DC 20447, Phone: 202-205-4829.

Dated: March 31, 2000.
Howard Rolston,
Director, Office of Planning, Research and Evaluation.

[FR Doc. 00-8409 Filed 4-5-00; 8:45 am]

BILLING CODE 4184-01-M